DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed continuing information collection. In accordance with the Paperwork Reduction Act of 1995, this notice seeks comments concerning the National Flood Insurance Program—Mortgage Portfolio Protection Program (MPPP) that is a mechanism used by lending institutions mortgage servicing companies, and others servicing mortgage loan portfolios to bring the mortgage loan portfolios into compliance with the flood insurance purchase requirements of the Flood Disaster Protection Act of 1973, as amended.

SUPPLEMENTARY INFORMATION: The National Flood Insurance Program (NFIP), authorized by the National Flood Insurance Act of 1968, Public Law 90-448, and expanded by the Flood Disaster Protection Act of 1973, Public Law 93-234, as amended, provides federally backed flood insurance for buildings exposed to flood risk. In accordance with Public Law 93-234 the purchase of flood insurance is mandatory when Federal and federally related assistance is being provided for acquisition or construction of buildings located or to be located within FEMA identified Special Flood Hazard Areas of communities which are participating in the program.

Collection of Information

Title: National Flood Insurance Program—Mortgage Portfolio Protection Program (MPPP).

Type of Information Collection: Extension, without change, of a currently approved collection.

OMB Number: 1660-0086.

Form Numbers: None.

Abstract: The MPPP is a mechanism used by lending institutions mortgage servicing companies, and others servicing mortgage loan portfolios to bring the mortgage loan portfolios into compliance with the flood insurance purchase requirements of the Flood Disaster Protection Act of 1973, as amended. Implementation of various requirements of the MPPP should result in mortgagors, following receipt of notification of the need for flood insurance, showing evidence of such a policy or purchasing the necessary insurance through their local insurance agent or appropriate Write Your Own (WYO) Company. It is intended that NFIP policies be written under the MPPP only as a last resort, and only on mortgages whose mortgagors have failed to respond to the various notifications required by the Program. The requirements of the MPPP are contained in 44 CFR 62.23(l)(1).

Affected Public: Individuals and households; businesses or other for-profit; not-for-profit institutions; farms; Federal agencies or employees; and State, local or tribal governments.

Estimated Total Annual Burden Hours: 2,386 hours.

Annual Burden Hours
Project/activity (survey, form(s), focus group, worksheet, etc.) | Number of respondents: (A) | Frequency of responses: (B) | Burden hours per respondent: (C) | Annual responses: (D) = (A × B) | Total annual burden hours: (E) = (C × D)
WYO—Lender/Services Coordination | 22 | 1 | .5 | 22 | 11
Lenders/Mortgagors Service Coordination | 250 | 1 | .5 | 250 | 125
WYO Company Policy Issuance | 6000 | 1 | .25 | 6000 | 1500
WYO Company (New Program Entrant Insurance Company) | 1 | 1 | *750 | 1 | 750
Total | 6,273 |  |  |  | 2,386
* The 750 burden hours per respondent is the amount of time it takes a new program entrant (insurance company) to prepare, train, and compile various needed information.

Estimated Cost: $107,350.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before May 29, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Edward Connor, Deputy Director of Insurance, Mitigation Division, Federal Emergency Management Agency, Department of Homeland Security, 202-646-3429, edward.connor@dhs.gov, for additional information. You may contact the Records Management Branch for copies of the proposed collection of information at facsimile number (202) 646-3347or email address: FEMA-Information-Collections@dhs.gov.

Dated: March 26, 2007.
John A. Sharetts-Sullivan,
Chief, Records Management and Privacy, Information Resources Management Branch, Information Technology Services Division, Federal Emergency Management Agency, Department of Homeland Security.

[FR Doc. E7-5910 Filed 3-29-07; 8:45 am]

BILLING CODE 9110-12-P